FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 010099-047.

Title: International Council of Containership Operators.

Parties: A.P. Moller-Maersk A/S; ANL Container Line Pty Ltd.; American President Lines, Ltd.; APL Co. Pte. Ltd.; APL Ltd.; Atlantic Container Line AB; China Shipping Container Lines Co., Ltd.; CMA CGM, S.A.; Companhia Libra de Navegacao; Compania Libra de Navegacion Uruguay S.A.; COSCO Container Lines Co. Ltd; Crowley Maritime Corporation; Delmas SAS; Evergreen Marine Corporation (Taiwan), Ltd.; Hamburg-Süd KG; Hanjin Shipping Co., Ltd.; Hapag-Lloyd AG; Hapag-Lloyd USA LLC; Hyundai Merchant Marine Co., Ltd.; Kawasaki Kisen Kaisha, Ltd.; MISC Berhad; Mediterranean Shipping Co. S.A.; Mitsui O.S.K. Lines, Ltd.; Neptune Orient Lines, Ltd.; Nippon Yusen Kaisha; Norasia Container Line Ltd.; Orient Overseas Container Line, Ltd.; Pacific International Lines (Pte) Ltd.; Safmarine Container Line N.V.; United Arab Shipping Company (S.A.G.); Wan Hai Lines Ltd.; Yang Ming Transport Marine Corp.; and Zim Integrated Shipping Services Ltd.

Filing Party: John Longstreth, Esq.; Kirkpatrick & Lockhart Preston Gates Ellis LLP; 1601 K Street, NW., Washington, DC 20006-1600.

Synopsis: The amendment changes Malaysia International Shipping Corporation's corporate name to MISC Berhad.

Agreement No.: 012029.

Title: MSC/Crowley Bahamas Space Charter Agreement.

Parties: Crowley Liner Service, Inc. and Mediterranean Shipping Co. S.A.

Filing Party: Wayne R. Rohde, Esq.; Sher & Blackwell LLP; 1850 M Street, NW., Suite 900, Washington, DC 20036.

Synopsis: The agreement authorizes the parties to charter space to and from one another between ports in Florida and ports in the Bahamas.

Agreement No.: 012030.

Title: GWF/Maruba Space Charter Agreement.

Parties: Empresa de Navegacion Maruba S.A. and Great White Fleet Ltd. (“GWF”).

Filing Party: Wade S. Hooker, Esq.; 211 Central Park W; New York, NY 20573.

Synopsis: The agreement authorizes Maruba to charter space in the trade on GWF vessels between ports in Florida and ports in Guatemala and Honduras.

By Order of the Federal Maritime Commission.
Dated: February 29, 2008.
Karen V. Gregory,
Assistant Secretary.

[FR Doc. E8-4252 Filed 3-4-08; 8:45 am]

BILLING CODE 6730-01-P